DEPARTMENT OF AGRICULTURE

Animal and Plant Health Inspection Service

[Docket No. APHIS-2013-0044]

Environmental Impact Statement; Animal Carcass Management

AGENCY: Animal and Plant Health Inspection Service, USDA.

ACTION: Notice of intent to prepare an environmental impact statement and proposed scope of study.

SUMMARY: We are announcing to the public that the Animal and Plant Health Inspection Service intends to prepare an environmental impact statement (EIS) to examine the potential environmental effects of animal carcass management options used throughout the United States. This notice identifies potential alternatives and environmental effects that will be examined in the EIS and requests that the public comment on these proposed alternatives and environmental effects and identify other issues that could be examined in the EIS.

DATES: We will consider all comments that we receive on or before November 25, 2013.

ADDRESSES: You may submit comments by either of the following methods:

• Federal eRulemaking Portal: Go to http://www.regulations.gov/#!documentDetail;D=APHIS-2013-0044-;0001.

• Postal Mail/Commercial Delivery: Send your comment to Docket No. APHIS-2013-0044, Regulatory Analysis and Development, PPD, APHIS, Station 3A-03.8, 4700 River Road Unit 118, Riverdale, MD 20737-1238.

Supporting documents and any comments we receive on this docket may be viewed at http://www.regulations.gov/#!docketDetail;D=APHIS-2013-0044 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For questions related to the carcass management program, contact Ms. Lori P. Miller, PE, Senior Staff Officer, National Center for Animal Health Emergency Management, VS, APHIS, 4700 River Road Unit 41, Riverdale, MD 20737; (301) 851-3512. For questions related to the EIS, contact Ms. Samantha Floyd, Environmental Protection Specialist, Environmental and Risk Analysis Services, PPD, APHIS, 4700 River Road Unit 149, Riverdale, MD 20737; (301) 851-3053.

SUPPLEMENTARY INFORMATION:

Background

The Animal Health Protection Act (7 U.S.C. 8301 et seq.) authorizes the Secretary of Agriculture to order the destruction or removal of animals to prevent the introduction and spread of livestock pests or diseases. Large numbers of animals and carcasses may need to be disposed of or otherwise managed during or after an animal health emergency. Examples of an animal health emergency include, but are not limited to, an outbreak of a foreign animal disease, a natural disaster, or the introduction of a chemical or radiological agent. As carcasses begin to degrade, bodily fluids, chemical and biological leachate components, and hazardous gases such as methane are released into the environment, potentially impacting the health and safety of surrounding humans, livestock, and wildlife. Therefore, the management of large numbers of carcasses during an animal health emergency must be timely, safe, biosecure, aesthetically acceptable, and environmentally responsible.

Current Animal and Plant Health Inspection Service (APHIS) regulations regarding carcass management, including those found in 9 CFR 53.4, are based on World Organization for Animal Health (OIE) recommendations and sound science. APHIS regulations specify that animals infected by or exposed to foot-and mouth disease, pleuropneumonia, rinderpest, and certain other communicable diseases of livestock or poultry are required to be disposed of by burial or burning, unless otherwise specified by the APHIS Administrator. Traditionally, burial has involved placement of carcasses in unlined pits or trenches, and burning has involved open pyres (i.e., combustible heaps). APHIS may work in conjunction with States to manage animal carcasses during or after an animal health emergency. However, State regulations concerning carcass management vary, and Federal and State regulations are not always based on the most current scientific information with regard to impacts of such activities on the environment and public health.

Environmental Impact Statement

To examine the potential environmental effects of animal carcass management options used throughout the United States, APHIS is preparing an environmental impact statement (EIS). The EIS will analyze and compare all major and readily available mass carcass management options that may be utilized during an animal health emergency. APHIS is considering classifying mass carcass management as management of 50 tons or more of biomass per premises. In the EIS, we intend to compare unlined burial and open-air burning disposal methods with other available carcass management options. These may include composting (on- or off-site), rendering, landfills compliant with the Resource Conservation and Recovery Act (RCRA), and other fixed facility options, such as incinerators compliant with the Clean Air Act, that could accommodate a large volume of carcasses over a short period of time.

The findings of the EIS will be used for planning and decisionmaking and to inform the public about the potential environmental effects of currently available carcass management options. Additionally, when mass carcass management options are utilized, site-specific environmental documents may be required. If such documents are needed, APHIS may use information presented and analyzed in the EIS, which will help APHIS to promptly fulfill its environmental compliance obligations when an emergency situation arises requiring immediate action.

We are requesting public comment to help us identify or confirm potential alternatives and environmental effects, as well as any other issues, that could and should be examined in the EIS. The EIS will be prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Alternatives

We have identified the following alternatives for further examination in the EIS:

Take no action. Under the no action alternative, existing APHIS regulations that recommend unlined burial and open-air burning will be used as the baseline against which alternative carcass management methods may be compared. This action does not involve changes to the current situation.

Alternative action. Under the alternative action, APHIS is considering alternatives in addition to unlined burial and open-air burning as carcass management options. Alternative actions may include one or some combination of the following: Composting (on- or off-site), rendering, RCRA-compliant landfills, and other fixed facility options, such as incinerators compliant with the Clean Air Act.

Environmental Effects for Consideration

We have identified the following potential environmental effects for examination in the EIS. We are requesting that the public comment on them during the scoping period:

• Effects on soil, air, and water quality.

• Effects on humans:

• Health and safety.

• Agricultural lands.

• Industries and the economy.

• Public perception.

• Cultural and historic resources.

• Effects on wildlife populations, including effects on federally listed threatened and endangered species.

• Effects on plant populations, including effects on federally listed threatened and endangered species.

Comments that identify other issues or alternatives that could be considered for examination in the EIS would be especially helpful. All comments received during the scoping period will be carefully considered in developing the final scope of the EIS. Upon completion of the draft EIS, a notice announcing its availability and an opportunity to comment on it will be published in the Federal Register.

Authority: 7 U.S.C. 8301-8317; 7 CFR 2.22, 2.80, and 371.4.

Done in Washington, DC, this 21st day of October 2013.
Kevin Shea,
Administrator, Animal and Plant Health Inspection Service.

[FR Doc. 2013-25158 Filed 10-24-13; 8:45 am]

BILLING CODE 3410-34-P